DEPARTMENT OF HEALTH AND HUMAN SERVICES

Centers for Disease Control and Prevention

[30Day-13-12EG]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-7570 or send an email to omb@cdc.gov. Send written comments to CDC Desk Officer, Office of Management and Budget, Washington, DC or by fax to (202) 395-5806. Written comments should be received within 30 days of this notice.

Proposed Project

Use of Smartphones to Collect Information about Health Behaviors: Feasibility Study—New—National Center for Chronic Disease Prevention and Health Promotion (NCCDPHP), Centers for Disease Control and Prevention (CDC).

Background and Brief Description

Despite the high level of public knowledge about the adverse effects of smoking, tobacco use remains the leading preventable cause of disease and death in the U.S., resulting in approximately 443,000 deaths annually. During 2005-2010, the overall proportion of U.S. adults who were current smokers declined from 20.9% to 19.3%. Despite this decrease, smoking rates are still well above Healthy People 2020 targets for reducing adult smoking prevalence to 12%, and the decline in prevalence was not uniform across the population. Timely information on tobacco usage is needed for the design, implementation, and evaluation of public health programs.

New mobile communications technologies provide a unique opportunity for innovation in public health surveillance. Text messaging and smartphone Web access are immediate, accessible, and anonymous, a combination of features that could make smartphones ideal for the ongoing research, surveillance, and evaluation of risk behaviors and health conditions, as well as targeted dissemination of information.

CDC proposes to conduct a feasibility study to evaluate the process of conducting Web surveys by smartphone and text message surveys by feature phone (cell phones that do not have Web access), the outcomes of the surveys, and the value of the surveys. The universe for this study is English-speaking U.S. residents aged 18-65. The sample frame will consist of a national random digit dial sample of telephone numbers from a frame of known cell phone exchanges. Respondents reached on their cell phones will be asked to complete an initial CATI survey consisting of a short series of simple demographic questions, general health questions, and questions about tobacco and alcohol use. At the conclusion of this brief survey, respondents who have smartphones will be asked to participate in the feasibility study, which consists of a first follow-up survey and, a week later, a second follow-up survey. Those who agree will receive invitations to participate by text message, which will include a link to the survey. A sample of respondents who have feature phones will be asked to participate in a text message pilot, which also consists of a first follow-up survey and a second follow-up survey. Text message respondents will receive a text message inviting them to participate; respondents who opt in will receive text messages with one survey question at a time. Before initiating the feasibility study, CDC will conduct a brief pre-test of information collection forms and procedures.

This study will evaluate: (1) Response bias of a smartphone health survey by comparing data collected via CATI to data collected via smartphones/text messages, and data collected via smartphones to data collected via text messages, (2) relative cost-effectiveness of data collected via CATI to data collected via smartphones/text messages; (3) coverage bias associated with restricting the sample to smartphone users; and (4) the utility of smartphones for completing frequent, short interviews (e.g., diary studies to track activities or events).

OMB approval is requested for one year. Participation is voluntary. There are no costs to respondents other than their time. The total estimated annualized burden hours are 306.

Estimated Annualized Burden Hours
Type of respondents | Form name | Number of respondents | Number of responses per respondent | Average burden per response (in hr)
Adults Aged 18 to 65, All cell phone users | Pre-test (CATI Screener/CATI Recruitment | 20 | 1 | 8/60
| Screener/CATI Recruitment | 1,990 | 1 | 1/60
| Initial CATI Survey | 1,590 | 1 | 7/60
Adults Aged 18 to 65, Smartphone Users | First Web Survey Follow-up for Smartphone Users | 700 | 1 | 3/60
| Second Web Survey Follow-up for Smartphone Users | 595 | 1 | 3/60
Adults Aged 18 to 65, Non-smartphone Users | First Text Message Survey Follow-up for non-Smartphone Users | 200 | 1 | 3/60
| Second Text Message Survey Follow-up for non-Smartphone Users | 170 | 1 | 3/60

Ron A. Otten,
Director, Office of Scientific Integrity, Office of the Associate Director for Science, Office of the Director, Centers for Disease Control and Prevention.

[FR Doc. 2013-08862 Filed 4-15-13; 8:45 am]

BILLING CODE 4163-18-P